FEDERAL TRADE COMMISSION

Agency Information Collection Activities; Submission for OMB Review; Comment Request

AGENCY: Federal Trade Commission (“Commission” or “FTC”).

ACTION: Notice.

SUMMARY: The FTC intends to conduct a preliminary and exploratory study on consumer susceptibility to fraudulent and deceptive marketing. This research will be conducted to further the FTC's mission of protecting consumers from unfair and deceptive practices. The information collection requirements described below are being submitted to the Office of Management and Budget (“OMB”) for review, as required by the Paperwork Reduction Act (“PRA”).

DATES: Comments must be submitted on or before September 3, 2013.

ADDRESSES: Interested parties may file a comment online or on paper, by following the instructions in the Request for Comment sub-part of the SUPPLEMENTARY INFORMATION section below. Write “Fraud Susceptibility Internet Panel Study, FTC File No. P095500” on your comment, and file your comment online at https://public.commentworks.com/ftc/fraudinternetpanelstudypra2, by following the instructions on the web-based form. If you prefer to file your comment on paper, mail or deliver your comment to the following address: Federal Trade Commission, Office of the Secretary, Room H-113 (Annex J), 600 Pennsylvania Avenue NW., Washington, DC 20580.

FOR FURTHER INFORMATION CONTACT: Requests for additional information should be addressed to Keith B. Anderson, Economist, Bureau of Economics, Federal Trade Commission, 600 Pennsylvania Avenue NW., Mail Stop NJ-4136, Washington, DC 20580. Telephone: (202) 326-3428.

SUPPLEMENTARY INFORMATION:

I. Background

As part of its consumer protection mission, the FTC has brought hundreds of cases against consumer fraud and has committed significant resources to educating consumers to avoid such frauds. To ensure that its anti-fraud efforts are as effective as possible, the Commission seeks to better understand what makes some consumers more susceptible to becoming fraud victims. The Commission has conducted several previous studies that, in whole or in part, examined this issue.¹ The current proposed study will add to this knowledge.

¹ The Commission has conducted three surveys designed to estimate the prevalence of consumer fraud among U.S. adults. The most recent survey was conducted between November 2011 and February 2012. A report describing the findings of that survey—Consumer Fraud in the United States, 2011: The Third FTC Survey—was released in April of this year and can be found at www.ftc.gov/os/2013/04/130419fraudsurvey.pdf. While the primary focus of these studies was measuring the extent of the problem of fraud, the surveys included questions designed to help address questions of whether consumers with certain characteristics were more likely to have been victims. In addition, the Commission conducted an exploratory experimental study in a university economics laboratory that was aimed at identifying consumer characteristics that were correlated with whether consumers found fraudulent and plausible advertisements to be credible—a possible precursor to falling victim to fraud. The results of that experiment are still being analyzed.

Understanding when and why people are vulnerable to fraud would better inform the FTC's ongoing efforts to fight fraud through law enforcement and consumer education. The study is not intended to lead to enforcement actions; rather, study results should help the Commission better target its enforcement actions and consumer education initiatives. Understanding why some consumers are more vulnerable to fraud may allow the Commission to improve its consumer education materials to address specific vulnerabilities, more efficiently target our education materials to particularly vulnerable populations, and adapt disclosures to address critical vulnerabilities that lead to fraud victimization.

II. Paperwork Reduction Act

Under the PRA, 44 U.S.C. 3501-3521, federal agencies must get OMB approval for each collection of information they conduct or sponsor. “Collection of information” means agency requests or requirements that members of the public submit reports, keep records, or provide information to a third party. 44 U.S.C. 3502(3), 5 CFR 1320.3(c).

On June 11, 2009, the FTC sought public comment on the information collection requirements associated with the proposed study.² No comments were received. Pursuant to the OMB regulations, 5 CFR Part 1320, that implement the PRA, the Commission is providing this second opportunity for public comment.

² 74 FR 27796 (June 11, 2009). While the Commission announced the instant study at the same time as the study that was conducted in the university economics laboratory (see supra note 1), as the studies were further developed, FTC staff concluded that it would be better to wait until the laboratory experiment was largely completed before moving forward with the current study. Similarly, staff decided to wait for the completion of the most recent fraud survey. As discussed above, that survey has now been completed and the results published. The analysis of the results of the laboratory experiment is largely complete and the findings are being prepared for publication.

As required by section 3506(c)(2)(A) of the PRA, the FTC is providing this opportunity for public comment while pursuing OMB approval for the study.

A. Description of the Collection of Information and Proposed Use

The FTC proposes to use a private survey firm's panel of consumers who have agreed to complete online surveys and will obtain responses from 5,000 members of the contractor's panel. The proposed study is a limited but focused exploration of the determinants of fraud susceptibility. The study focuses on individual traits and behaviors that may contribute to fraud susceptibility. Given the convenience sample, we do not intend to make population-wide projections from our results. Further, the study is intended to focus on individuals' traits and not on the characteristics of advertisements that contribute to fraud susceptibility.

Participants in the study will first be shown two advertisements and will be asked to evaluate the credibility of the ads. Participants will also be asked to indicate how likely they would be to purchase the product if it was a real product and how likely they would be to recommend the product to friends. Understanding the variation in participants' responses to these questions will be the key focus of the analysis in the study.

The two ads shown to each participant will be drawn from a set of six ads. The ads will be for three types of products or services—a diet product or plan, a job offer, and a vacation. For each of the three products, there will be two ads—one that contains claims that are implausible and likely fraudulent, and one that contains only plausible claims. Participants will be shown advertisements for two of the three products. The advertisement for one of the products shown to each participant will be a fraudulent version; the other may be either fraudulent or plausible.

Participants will also be asked questions designed to learn whether they have been a victim of weight-loss, business-opportunity, or work-at-home frauds. These types of fraud are obviously related to the advertisements participants will have evaluated—specifically, the weight-loss and job ads. The responses to these questions can serve both as the focus of an alternative analysis and also to see whether those who find the fraudulent ads to be more credible are more likely to have been victimized in the past.

The survey will also collect information on the participant's personal characteristics and behavior. Responses to these questions will be examined to see whether they are correlated with the ad credibility ratings. These variables will include, for example, whether the person is impulsive or willing to wait, and whether the person is willing to take risks. Questions designed to measure how skeptical a person is of claims made in advertisements, both generally and in specific settings, and the participant's knowledge of how markets work—consumer literacy—are also included. Participants will also be asked questions designed to provide some information on how interested the person would be in the products that are the subject of the ads presented in the first section of the study. The study also asks for demographic information.

B. Estimated Burden Hours

The FTC plans to seek information from 100 participants in the pre-test phase and 5,000 participants in the final data collection phase. For those who participate in the final data collection phase, the time to complete the survey is estimated at 30 minutes. An additional 5 minutes may be needed to complete the pre-test version. Thus, the overall burden for this study will be approximately 2,558 hours—2,500 hours for the 5,000 who participate in the final data collection and 58 hours for the 100 who participate in the pre-test.

C. Estimated Costs

The cost per respondent should be negligible. Participation is voluntary, and will not require any labor expenditures by respondents. There are no capital, start up, operation, maintenance, or other similar costs to the respondents.

D. Request for Comment

You can file a comment online or on paper. For the Commission to consider your comment, we must receive it on or before September 3, 2013. Write “Fraud Susceptibility Internet Panel Study, FTC File No. P095500” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is obtained from any person and which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).³ Your comment will be kept confidential only if the FTC General Counsel, in his or her sole discretion, grants your request in accordance with the law and the public interest.

³ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://public.commentworks.com/ftc/fraudinternetpanelstudypra2, by following the instructions on the web-based form. If this Notice appears at http://www.regulations.gov/#!home, you also may file a comment through that Web site.

If you file your comment on paper, write “Fraud Susceptibility Internet Panel Study, FTC File No. P095500” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before September 3, 2013. You can find more information, including routine uses permitted by the Privacy Act, in the Commission's privacy policy, at http://www.ftc.gov/ftc/privacy.htm.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Principal Deputy General Counsel.

[FR Doc. 2013-18560 Filed 7-31-13; 8:45 am]

BILLING CODE 6750-01-P